DEPARTMENT OF TRANSPORTATION

Federal Aviation Administration

14 CFR Part 39

[Docket No. 2001-NM-47-AD; Amendment 39-12412; AD 2001-17-21]

RIN 2120-AA64

Airworthiness Directives; McDonnell Douglas Model 717 Series Airplanes

AGENCY: Federal Aviation Administration, DOT.

ACTION: Final rule.

SUMMARY: This amendment adopts a new airworthiness directive (AD), applicable to certain McDonnell Douglas Model 717 series airplanes, that requires repetitive inspections of the rod ends of the spoiler hold-down actuators for breakage along the intersection of the thread runout and the outer spherical surface of the lug; and replacement of any broken rod end of the spoiler hold-down actuators with a new rod end. This AD also requires replacement of the rod ends of the spoiler hold-down actuators with new rod ends, and reidentification of the spoiler hold-down actuators, which constitutes terminating action for the repetitive inspections. This action is necessary to prevent failure of the rod ends of the spoiler hold-down actuators due to fatigue, which could result in loss of the back-up protection of the spoiler float hold-down and unavailability of monitoring for an uncommanded spoiler movement. This action is intended to address the identified unsafe condition.

DATES: Effective October 1, 2001.

The incorporation by reference of Boeing Alert Service Bulletin 717-27A0010, dated August 15, 2000; Boeing Service Bulletin 717-27-0013, dated January 30, 2001; and Boeing Service Bulletin 717-27-0013, Revision 01, dated February 28, 2001; as listed in the regulations, is approved by the Director of the Federal Register as of October 1, 2001.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210

SUPPLEMENTARY INFORMATION: A proposal to amend part 39 of the Federal Aviation Regulations (14 CFR part 39) to include an airworthiness directive (AD) that is applicable to certain McDonnell Douglas Model 717 series airplanes was published in the Federal Register on May 15, 2001 (66 FR 26817). That action proposed to require repetitive inspections of the rod ends of the spoiler hold-down actuators for breakage along the intersection of the thread runout and the outer spherical surface of the lug; and replacement of any broken rod end of the spoiler hold-down actuators with a new rod end. It also proposed to require replacement of the rod ends of the spoiler hold-down actuators with new rod ends, and reidentification of the spoiler hold-down actuators, which constitutes terminating action for the repetitive inspections.

Comments

Interested persons have been afforded an opportunity to participate in the making of this amendment. No comments were submitted in response to the proposal or the FAA's determination of the costs to the public.

Conclusions

The FAA has determined that air safety and the public interest require the adoption of the rule as proposed.

Cost Impact

There are approximately 33 Model 717 series airplanes of the affected design in the worldwide fleet. The FAA estimates that 23 airplanes of U.S. registry will be affected by this AD.

It will take approximately 1 work hour per airplane to accomplish the required inspection, at an average labor rate of $60 per work hour. Based on these figures, the cost impact of the inspection required by this AD on U.S. operators is estimated to be $1,380, or $60 per airplane, per inspection cycle.

It will take approximately 14 work hours per airplane to accomplish the required replacement and reidentification, at an average labor rate of $60 per work hour. The manufacturer has committed previously to its customers that it will bear the cost of replacement parts. As a result, the cost of those parts is not attributable to this AD. Based on these figures, the cost impact of the replacement and reidentification required by this AD on U.S. operators is estimated to be $19,320, or $840 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-17-21 McDonnell Douglas: Amendment 39-12412. Docket 2001-NM-47-AD.

Applicability: Model 717 series airplanes, manufacturer's fuselage numbers 5004 through 5036 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the rod ends of the spoiler hold-down actuators due to fatigue, which could result in loss of the back-up protection of the spoiler float hold-down and unavailability of monitoring for an uncommanded spoiler movement, accomplish the following:

General Visual Inspection

(a) Within 450 flight hours after the effective date of this AD, do a general visual inspection of the rod ends of the spoiler hold-down actuators of the inboard and outboard spoilers for breakage along the intersection of the thread runout and the outer spherical surface of the lug, per Boeing Alert Service Bulletin 717-27A0010, dated August 15, 2000.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Condition 1 (No Breakage Present)

(1) If no breakage is present, repeat the general visual inspection every 450 flight hours.

Condition 2 (Breakage Present)

(2) If any breakage is present, before further flight, replace the broken rod end of the spoiler hold-down actuator with a new rod end, per Boeing Alert Service Bulletin 717-27A0010, dated August 15, 2000; or Boeing Service Bulletin 717-27-0013, dated January 30, 2001, or Revision 01, dated February 28, 2001. As of the effective date of this AD, the replacement shall be done per Boeing Service Bulletin 717-27-0013, Revision 01, dated February 28, 2001. For rod ends that have been replaced per Boeing Alert Service Bulletin 717-27A0010, dated August 15, 2000, repeat the general visual inspection thereafter every 450 flight hours. Accomplishment of this replacement per Boeing Service Bulletin 717-27-0013 constitutes terminating action for the requirements of this AD for that rod end.

Terminating Action

(b) Within 15 months or 3,600 flight hours after the effective date of this AD, whichever occurs first, replace the rod ends of the spoiler hold-down actuators with new rod ends, and reidentify the spoiler hold-down actuators, per Boeing Service Bulletin 717-27-0013, dated January 30, 2001, or Revision 01, dated February 28, 2001. Accomplishment of this replacement and reidentification constitutes terminating action for the requirements of this AD.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin 717-27A0010, dated August 15, 2000; Boeing Service Bulletin 717-27-0013, dated January 30, 2001; or Boeing Service Bulletin 717-27-0013, Revision 01, dated February 28, 2001, as applicable. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on October 1, 2001.

Issued in Renton, Washington, on August 17, 2001.
Vi L. Lipski,
Manager, Transport Airplane Directorate, Aircraft Certification Service.

[FR Doc. 01-21396 Filed 8-24-01; 8:45 am]

BILLING CODE 4910-13-P